DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On May 10, 2018, OFAC determined that the property and interests in property subject to U.S. jurisdiction of the following persons are blocked under the relevant sanctions authorities listed below.

Individuals

1. AMINI, Meghdad; DOB 05 Jun 1982; POB Tehran, Iran; Additional Sanctions Information—Subject to Secondary Sanctions; Gender Male; Passport U36089349 (Iran); National ID No. 0071070222 (Iran) (individual) [SDGT] [IRGC] [IFSR] (Linked To: ISLAMIC REVOLUTIONARY GUARD CORPS (IRGC)-QODS FORCE).

Designated pursuant to section 1(d)(i) of Executive Order 13224 of September 23, 2001, “Blocking Property and Prohibiting Transactions With Persons Who Commit, Threaten to Commit, or Support Terrorism,” (E.O. 13224) for assisting in, sponsoring, or providing financial, material, techological support for, or financial or other services to or in support of, Iran's ISLAMIC REVOLUTIONARY GUARD CORPS-QODS FORCE, a person determined to be subject to E.O. 13224.

2. KHODA'I, Mohammad Hasan (a.k.a. KALANTARI, Sajjad); DOB 21 Sep 1983; Additional Sanctions Information—Subject to Secondary Sanctions; Gender Male; National ID No. 444-973367-3 (Iran) (individual) [SDGT] [IRGC] [IFSR] (Linked To: ISLAMIC REVOLUTIONARY GUARD CORPS (IRGC)-QODS FORCE).

Designated pursuant to section 1(c) of E.O. 13224 for acting for or on behalf of Iran's ISLAMIC REVOLUTIONARY GUARD CORPS-QODS FORCE, a person determined to be subject to E.O. 13224.

3. NAJAFPUR, Sa'id (a.k.a. CHEKOSARI, Sa'id Najafpur; a.k.a. NAJAFPUR, Behnam; a.k.a. “DADR, Behnam”; a.k.a. “SADR, Behnam”); DOB 1980; Additional Sanctions Information—Subject to Secondary Sanctions; Gender Male (individual) [SDGT] [IRGC] [IFSR] (Linked To: ISLAMIC REVOLUTIONARY GUARD CORPS (IRGC)-QODS FORCE).

Designated pursuant to section 1(c) of E.O. 13224 for acting for or on behalf of Iran's ISLAMIC REVOLUTIONARY GUARD CORPS-QODS FORCE, a person determined to be subject to E.O. 13224.

4. NIKBAKHT, Mas'ud (a.k.a. MAS'UD, Abu Ali; a.k.a. NOBAKHT, Mas'ud; a.k.a. NOWBAKHT, Mas'ud; a.k.a. NOWBAKHT, Sa'id); DOB 28 Dec 1961; Additional Sanctions Information—Subject to Secondary Sanctions; Gender Male; Passport 9004318; alt. Passport 9011128; alt. Passport 9004398 (individual) [SDGT] [IRGC] [IFSR] (Linked To: ISLAMIC REVOLUTIONARY GUARD CORPS (IRGC)-QODS FORCE).

Designated pursuant to section 1(c) of E.O. 13224 for acting for or on behalf of Iran's ISLAMIC REVOLUTIONARY GUARD CORPS-QODS FORCE, a person determined to be subject to E.O. 13224.

5. SALEHI, Foad (a.k.a. BASAIR, Foad Salehi; a.k.a. BASIR, Foad Salehi); DOB 28 Apr 1986; POB Tehran, Iran; Additional Sanctions Information—Subject to Secondary Sanctions; Gender Male; Passport J37945161 (Iran); National ID No. 0077849248 (Iran) (individual) [SDGT] [IRGC] [IFSR] (Linked To: ISLAMIC REVOLUTIONARY GUARD CORPS (IRGC)-QODS FORCE; Linked To: VALADZAGHARD, Mohammadreza Khedmati).

Designated pursuant to section 1(d)(i) of E.O. 13224 for assisting in, sponsoring, or providing financial, material, techological support for, or financial or other services to or in support of Iran's ISLAMIC REVOLUTIONARY GUARD CORPS-QODS FORCE, a person determined to be subject to E.O. 13224.

Designated pursuant to section 1(d)(i) of E.O. 13224 for assisting in, sponsoring, or providing financial, material, techological support for, or financial or other services to or in support of MOHAMMADREZA KHEDMATI VALADZAGHARD, a person determined to be subject to E.O. 13224.

6. VALADZAGHARD, Mohammadreza Khedmati; DOB 05 Apr 1986; POB Tehran, Iran; Additional Sanctions Information—Subject to Secondary Sanctions; Gender Male; Passport N35635875; National ID No. 0081798301; Birth Certificate Number 11770 (individual) [SDGT] [IRGC] [IFSR] (Linked To: ISLAMIC REVOLUTIONARY GUARD CORPS (IRGC)-QODS FORCE).

Designated pursuant to section 1(d)(i) of E.O. 13224 for assisting in, sponsoring, or providing financial, material, techological support for, or financial or other services to or in support of, Iran's ISLAMIC REVOLUTIONARY GUARD CORPS-QODS FORCE, a person determined to be subject to E.O. 13224.

Entities

1. JAHAN ARAS KISH, No. 5 Jam Tower, Unit 31, 6th Floor, Bidar Street, Elahieh, Tehran, Iran; No. 716 Sarina Tower 1, 7th Floor, Kish, Iran; Additional Sanctions Information—Subject to Secondary Sanctions; Registration ID 10877 (Iran) [SDGT] [IRGC] [IFSR] (Linked To: ISLAMIC REVOLUTIONARY GUARD CORPS (IRGC)-QODS FORCE; Linked To: NAJAFPUR, Sa'id).

Designated pursuant to section 1(c) of E.O. 13224 for being owned or controlled by SA'ID NAJAFPUR, a person determined to be subject to E.O. 13224.

2. JOINT PARTNERSHIP OF MOHAMMADREZA KHEDMATI AND ASSOCIATES (a.k.a. KHEDMATI AND COMPANY JOINT PARTNERSHIP); Additional Sanctions Information—Subject to Secondary Sanctions; National ID No. 14006467155 (Iran); Registration ID 503586 (Iran) [SDGT] [IRGC] [IFSR] (Linked To: VALADZAGHARD, Mohammadreza Khedmati; Linked To: KHODA'I, Mohammad Hasan).

Designated pursuant to section 1(c) of E.O. 13224 for being owned or controlled by MOHAMMADREZA KHEDMATI VALADZAGHARD, a person determined to be subject to E.O. 13224.

Designated pursuant to section 1(c) of E.O. 13224 for being owned or controlled by MOHAMMAD HASAN KHODA'I, a person determined to be subject to E.O. 13224.

3. RASHED EXCHANGE (a.k.a. SARAFI RASHED); website www.Rashedexchange.com; Additional Sanctions Information—Subject to Secondary Sanctions; National ID No. 14006467155 (Iran); Registration ID 503586 (Iran); Commercial Registry Number 0411518776478 (Iran) [SDGT] [IRGC] [IFSR] (Linked To: VALADZAGHARD, Mohammadreza Khedmati).

Designated pursuant to section 1(c) of E.O. 13224 for being owned or controlled by MOHAMMADREZA KHEDMATI VALADZAGHARD, a person determined to be subject to E.O. 13224.

Dated: May 10, 2018.
Andrea M. Gacki,
Acting Director, Office of Foreign Assets Control.

[FR Doc. 2018-10357 Filed 5-14-18; 8:45 am]

BILLING CODE 4810-AL-P